DEPARTMENT OF LABOR

Office of the Secretary

Agency Information Collection Activities; Submission for OMB Review; Comment Request; Evaluation of the Reintegration of Ex-Offenders—Adult Program

ACTION: Notice.

SUMMARY: The Department of Labor (DOL) is submitting the Employment and Training Administration (ETA) sponsored information collection request (ICR) proposal titled, “Evaluation of the Reintegration of Ex-Offenders—Adult Program,” to the Office of Management and Budget (OMB) for review and approval for use in accordance with the Paperwork Reduction Act (PRA) of 1995 (44 U.S.C. 3501 et seq.).

DATES: Submit comments on or before February 21, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at (202) 693-4129 (this is not a toll-free number) or sending an email to DOL_PRA_PUBLIC@dol.gov.

Submit comments about this request to the Office of Information and Regulatory Affairs, Attn: OMB Desk Officer for the Department of Labor, Employment and Training Administration (ETA), Office of Management and Budget, Room 10235, Washington, DC 20503, Telephone: (202) 395-6929/Fax: (202) 395-6881 (these are not toll-free numbers), email: OIRA_submission@omb.eop.gov.

FOR FURTHER INFORMATION CONTACT: Michel Smyth by telephone at (202) 693-4129 (this is not a toll-free number) or by email at DOL_PRA_PUBLIC@dol.gov.

SUPPLEMENTARY INFORMATION: The ETA seeks to collect information from program participants and staff in the random assignment evaluation of the Reintegration of Ex-Offenders-Adult Program (RExO). This evaluation will examine the impact of comprehensive employment-centered services on newly released prisoners' employment, earnings, and recidivism. The evaluation team will compare the outcomes of interest for RExO service recipients with those of eligible individuals who are randomly assigned to the control group and do not receive RExO services. The ETA requests approval to conduct two rounds of participant surveys to learn about participant characteristics and outcomes of RExO, a joint initiative launched in 2005 of the DOL, the Department of Justice (DOJ), and several other federal agencies. The purpose of the RExO, formerly known as the Prisoner Re-Entry Initiative (PRI), is to provide employment-centered services as well as case management, mentoring and a range of other supportive services to nonviolent offenders newly released from prison. The initiative builds on several earlier and ongoing federal reentry programs; including Weed and Seed, the Serious and Violent Offender Reentry Initiative, the Reentry Partnership Initiative, and, most directly, Ready4Work. RExO grantee programs follow a three-stage reentry framework that begins with pre-release services, progresses through structured reentry, and culminates in community reintegration.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on March 8, 2011 (76 FR 12758).

Interested parties are encouraged to send comments to the OMB, Office of Information and Regulatory Affairs at the address shown in the ADDRESSES section within 30 days of publication of this notice in the Federal Register. In order to help ensure appropriate consideration, comments should reference OMB ICR Reference Number 201105-1205-003. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Title of Collection: Evaluation of the Reintegration of Ex-Offenders—Adult Program.

OMB ICR Reference Number: 201105-1205-003.

Affected Public: Individuals or households; and State, Local, and Tribal Governments.

Total Estimated Number of Respondents: 3,286.

Total Estimated Number of Responses: 7,182.

Total Estimated Annual Burden Hours: 3,879.

Total Estimated Annual Other Costs Burden: $0.

Dated: January 5, 2012.
Michel Smyth,
Departmental Clearance Officer.

[FR Doc. 2012-1050 Filed 1-19-12; 8:45 am]

BILLING CODE 4510-FT-P